DEPARTMENT OF COMMERCE

National Oceanic and Atmospheric Administration

[I.D. 111706A]

Endangered Species; File No. 1543

AGENCY: National Marine Fisheries Service (NMFS), National Oceanic and Atmospheric Administration (NOAA), Commerce.

ACTION: Notice; issuance of permit.

SUMMARY: Notice is hereby given that Duke Power Company (Gene E. Vaughan, Principal Investigator), 13339 Hagers Ferry Road, Huntersville, North Carolina, 28078 has been issued a permit to conduct scientific research on shortnose sturgeon (Acipenser brevirostrum).

ADDRESSES: The permit and related documents are available for review upon written request or by appointment in the following offices:

Permits, Conservation and Education Division, Office of Protected Resources, NMFS, 1315 East-West Highway, Room 13705, Silver Spring, MD 20910; phone (301)713-2289; fax (301)713-0376; and

Southeast Region, NMFS, 263 13th Avenue South, St. Petersburg, FL 33701; phone (727)824-5312; fax (727)824-5309.

FOR FURTHER INFORMATION CONTACT: Malcolm Mohead or Brandy Hutnak, (301)713-2289.

SUPPLEMENTARY INFORMATION: On November 10, 2005, notice was published in the Federal Register (70 FR 68398) that a request for a scientific research permit to take shortnose sturgeon had been submitted by Duke Power Company. The requested permit has been issued under the authority of the Endangered Species Act of 1973, as amended (ESA; 16 U.S.C. 1531 et seq.) and the regulations governing the taking, importing, and exporting of endangered and threatened species (50 CFR parts 222-226).

Duke Power Company proposes to conduct a study of shortnose sturgeon in the Wateree River, South Carolina, as part of the Federal Energy Regulatory Commissions's 2008 relicensing process for the company's Catawba-Wateree Hydropower Project. Up to three adult and/or juvenile shortnose sturgeon are authorized to be captured annually with gill nets to measure, weigh, scan for PIT tags, fin clip and then release.

Issuance of this permit, as required by the ESA, was based on a finding that such permit (1) was applied for in good faith, (2) will not operate to the disadvantage of the endangered species which is the subject of this permit, and (3) is consistent with the purposes and policies set forth in section 2 of the ESA.

Dated: November 20, 2006.
P. Michael Payne,
Chief, Permits, Conservation and Education Division, Office of Protected Resources, National Marine Fisheries Service.

[FR Doc. E6-20007 Filed 11-24-06; 8:45 am]

BILLING CODE 3510-22-S